OFFICE OF GOVERNMENT ETHICS

Proposed Collection; Comment Request for Modified OGE Form 450 Executive Branch Confidential Financial Disclosure Report (New First Round Notice)

AGENCY: Office of Government Ethics (OGE).

ACTION: Notice.

SUMMARY: In August of 2005, the Office of Government Ethics published in the Federal Register a first round paperwork notice that it intended to modify the OGE Form 450 Executive Branch Confidential Financial Disclosure Report form, to improve its clarity and design, and to change in part the information that it collects. Because we received so many helpful comments in response to that notice, we have significantly redesigned the proposed new OGE Form 450 and are publishing another first round paperwork notice in order to provide a further comment period. After this additional first round notice and public comment period, OGE plans to submit a modified OGE Form 450 to the Office of Management and Budget (OMB) for review and three-year extension of approval under the Paperwork Reduction Act. The modified OGE Form 450 would be used for confidential disclosure financial disclosure reporting starting in 2007 under OGE's proposed amended executive branch regulations, once those regulatory revisions are finalized and become effective.

DATES: Comments by the public and agencies on this proposal are invited and should be received by May 31, 2006.

ADDRESSES: You may submit comments to OGE on this paperwork notice by any of the following methods:

• E-mail: usoge@oge.gov (include reference to “OGE Form 450 Paperwork Comment” in the subject line of the message).

• Fax: 202-482-9237.

• Mail, Hand Delivery/Courier: Office of Government Ethics, Suite 500, 1201 New York Avenue, NW., Washington, DC 20005-3917, Attention: James V. Parle, Associate Director, Information Resources Management Division.

FOR FURTHER INFORMATION CONTACT: James V. Parle, Associate Director, Information Resources Management Division, Office of Government Ethics; Telephone: 202-482-9300; TDD: 202-482-9293; Fax: 202-482-9237. A copy of the proposed further modified OGE Form 450 may be obtained, without charge, by contacting Mr. Parle.

SUPPLEMENTARY INFORMATION: The OGE Form 450 (OMB control #3209-0006) collects information from covered department and agency officials as required under OGE's executive branchwide regulatory provisions in subpart I of 5 CFR part 2634. The OGE Form 450 serves as the uniform report form for collection, on a confidential basis, of financial information required by the OGE regulation from covered new entrant and incumbent employees of Federal Government executive branch departments and agencies. Agency ethics officials then use the completed OGE Form 450 reports to conduct conflict of interest reviews and to resolve any actual or potential conflicts identified.

The basis for the OGE regulation and the report form is two-fold. First, section 201(d) of Executive Order 12674 of April 12, 1989 (as modified by Executive Order 12731 of October 17, 1990, 3 CFR, 1990 Comp., pp. 306-311, at p. 308) makes OGE responsible for the establishment of a system of nonpublic (confidential) financial disclosure by executive branch employees to complement the system of public financial disclosure under the Ethics in Government Act of 1978 (the “Ethics Act”), as amended, 5 U.S.C. appendix. Second, section 107(a) of the Ethics Act, 5 U.S.C. app., sec. 107(a), further provides authority for OGE as the supervising ethics office for the executive branch of the Federal Government to require that appropriate executive agency employees file confidential financial disclosure reports, “in such form as the supervising ethics office may prescribe.” The OGE Form 450, and the underlying executive branchwide financial disclosure regulation (5 CFR part 2634), constitute the basic reporting system that OGE has prescribed for such confidential financial disclosure in the executive branch.

Proposed Further Modifications to the Form

As noted above, in August of 2005, the Office of Government Ethics published a first round paperwork notice that it intended to modify the OGE Form 450 Executive Branch Confidential Financial Disclosure Report form, to improve its clarity and design, and to change in part the information that it collects. See 70 FR 47204-47206 (August 12, 2005). We also made our draft form as proposed to be modified available for public review and comment upon request. OGE received 18 agency comments on the proposed revised form, both in response to that paperwork notice and form-specific comments in response to the related proposed amendments to the confidential disclosure regulation noted below. Based thereon, OGE is now proposing further modifications to the OGE Form 450's design and content, and publishing in the Federal Register this additional first round paperwork notice.

As we noted in our first paperwork notice, the proposed modifications to the OGE Form 450 (both the previous and current drafts) are intended primarily to make it easier for filers to complete the form electronically. Modifications being proposed to the current version of the OGE Form 450 (9/02 edition) include changing the form layout from landscape to portrait. OGE expects to have a system in place by February 2007, not only for electronic completion of the new form but also for electronic filing.

Regardless of whether the form is filed electronically, the proposed modifications also are intended to make completion of the OGE Form 450 easier overall, by simplifying the instructions and placing them on the same pages as the reporting schedules so that filers will not have to scroll through multiple screens to read directions. Moreover, contacting filers with follow-up questions would be facilitated by the addition of space for the filer's e-mail address.

In response to concerns expressed about the length of the proposed modified form, we have decreased the number of pages from nine to five, or to one page if the filer has nothing to report. We did this, in part, by recombining the “noninvestment income” and the “assets and investment income” subparts into one part entitled “Assets and Income”; moving all of the examples to one, removable page; and creating a removable cover page.

In response to other concerns, we have moved the spaces designated for the filers' and reviewing officials' signatures from the last page to the first page of the form. In addition, we have modified the previous draft modified form by removing the column proposed in which the filer would have been required to check a box if the value of a reported stock exceeded $15,000 or if the value of a reported mutual fund exceeded $50,000. Some commenters noted that these boxes often would not assist reviewers in determining whether a filer's holdings would fall within the de minimis exemptions published at 5 CFR part 2640. In many cases, a filer's holdings would have to be aggregated when applying the de minimis exemptions, so the reviewer still would have to contact the employee for additional information.

Modifications proposed to the content of the OGE Form 450 parallel changes OGE has proposed to the executive branch confidential financial disclosure regulations in part 2634 of 5 CFR. Filers will be required to use the new version of the form once the regulatory revisions are finalized and become effective, which OGE anticipates will be on January 1, 2007. See OGE's proposed rule published on August 12, 2005 at 70 FR 47138-47147. Generally, the regulatory revisions proposed include: Eliminating the reporting of diversified mutual funds, eliminating dates of honoraria, eliminating dates of agreements and arrangements (other than those for future employment), eliminating the reporting of types of income that assets earned (i.e., dividends, capital gains, interest, etc.), and revising reporting requirements relating to liabilities by eliminating the requirement to report student loans, mortgages on rental property, and credit card debt if the loans are granted on terms made available to the general public.

OGE also is proposing to incorporate in the modified OGE Form 450 the new aggregation threshold of more than $305 for the reporting of gifts and travel reimbursements. This new threshold is based on the General Services Administration's (GSA's) increase in “minimal value” under the Foreign Gifts and Decorations Act to $305 or less for 2005-2007, to which the thresholds are linked by the Ethics Act and OGE regulation. See GSA's redefinition at 70 FR 2317-2318 (pt. V) (January 12, 2005), section 102(a)(2)(A) and (B) of the Ethics Act, OGE's regulatory adjustment of the gifts/reimbursements thresholds for both public and confidential financial disclosure reports at 70 FR 12111-12112 (March 11, 2005), and OGE DAEOgram DO-05-007 of March 17, 2005, all available on OGE's Web site at www.usoge.gov. (When GSA next adjusts minimal value, OGE will accordingly adjust the gifts/reimbursements reporting thresholds for the three-year period beyond 2007.)

Finally, OGE is proposing to update the OGE Form 450's Privacy Act Statement summary of the sixth listed routine use (see OGE's notice of revised Privacy Act records systems as published at 68 FR 3097-3109 (January 22, 2003), and routine use “f” at p. 3102 in particular).

Availability and Timing

After it is finally updated and authorized for use next year, OGE will make the modified OGE Form 450 available to departments and agencies, and their reporting employees, through the Forms, Publications & Other Ethics Documents section of OGE's Web site (www.usoge.gov). We will maintain the current version of the form on the OGE Web site for the rest of 2006.

As noted above, OGE does not intend that the modified OGE Form 450 (once finalized) be utilized until 2007. Therefore, OGE will separately request from OMB an extension of paperwork clearance for the current version of the report form to allow its continued use for the remainder of 2006 and publish in the Federal Register a second round paperwork notice with respect to that requested extension. Thus, agencies should continue to have their new entrant confidential report filers, including special Government employees (SGEs) filing such reports upon their reappointment/redesignation or appointment anniversary dates, use the current version of the form throughout this year. After the forthcoming final clearance of the new modified version of the OGE Form 450, agencies should require starting in 2007 both new entrant and annual incumbent confidential report filers to use the new version of the form.

Furthermore, OGE plans to waive this fall's filing requirement as to annual fiscal year (FY05) incumbent reports using the current version of the OGE Form 450 that otherwise would be due by October 31, 2006. Instead, we will require annual confidential filers to file the new modified form with their agencies by the new filing deadline of February 15, 2007. This first new report will incorporate a 15-month reporting period (from October 2005 through December 2006) in order to avoid any gap in reporting due to the transition from a fiscal year to a calendar year basis for annual reporting. Thereafter, the new annual confidential reports due each February will just cover the prior calendar year.

Effect on Use of Alternative Reports and OGE Optional Form 450-A

Since 1992, various departments and agencies have developed, with OGE review/approval, alternative reporting formats such as certificates of no conflict for certain classes of employees. Other agencies provide for additional disclosures pursuant to independent organic statutes and in certain other circumstances when authorized by OGE. Moreover, in 1997, OGE itself developed the OGE Optional Form 450-A (Confidential Certificate of No New Interests (Executive Branch)) for possible agency and confidential filer employee use in certain years, if applicable. That optional confidential form continues in use at various agencies throughout the executive branch. The authority to use these alternative systems, including the OGE Optional Form 450-A, would not be disturbed by OGE's proposed amendments to the confidential disclosure regulation or the modifications OGE is proposing to the OGE Form 450. For annual reporting, such alternative and optional forms should reflect the shift from a fiscal year to a calendar year basis once that change is instituted next year.

OGE notes that the underlying OGE Form 450 itself remains the uniform executive branch report form for most of those executive branch employees required by their agencies to report confidentially on their financial interests.

Reporting Individuals

The OGE Form 450 is to be filed by each reporting individual with the designated agency ethics official at the executive department or agency where he or she is or will be employed. Reporting individuals are regular employees whose positions have been designated by their agency under 5 CFR 2634.904 as requiring confidential financial disclosure in order to help avoid conflicts with their assigned responsibilities. Under that section, special Government employees are also generally required to file. Agencies may, if appropriate under the OGE regulation, exclude certain regular employees or SGEs as provided in 5 CFR 2634.905 (§ 2634.904(b) of the regulation as proposed for revision.) Reports are normally required to be filed within 30 days of entering a covered position (or earlier if required by the agency concerned), and again annually if the employee serves for more than 60 days in the position.

Most of the persons who file this report are current executive branch Government employees at the time they complete their report. However, some filers are private citizens who are asked by their prospective agencies to file new entrant reports prior to entering Government service in order to permit advance checking for any potential conflicts of interest and resolution thereof by recusal, divestiture, waiver, etc.

Reporting Burden

Based on OGE's annual agency ethics program questionnaire responses for 2002 through 2004, OGE estimates that an average of approximately 277,215 OGE Form 450 reports will be filed each year for the next three years throughout the executive branch. This estimate is based on the number of reports filed branchwide for 2002 through 2004 (272,755 in 2002, 263,463 in 2003, and 295,426 in 2004) for a total of 831,644, with that number then divided by three and rounded, to give the projected annual average of 277,215 reports. Of these reports, OGE estimates that 7.6 percent, or some 21,068 per year, will be filed by private citizens. Private citizen filers are those potential (incoming) regular employees whose positions are designated for confidential disclosure filing as well as potential special Government employees whose agencies require that they file their new entrant reports prior to assuming Government responsibilities. No termination reports are required for the OGE Form 450.

Each filing is estimated to take an average of one and one-half hours to complete. This yields an annual reporting burden of 31,602 hours. OGE previously has published an estimate of only 15 hours because we were not previously required by OMB to make a branchwide estimate, and 15 hours is the applicable regulatory minimum. The current burden hours therefore account for private citizen filers whose reports were filed each year only with OGE itself. In the past, the number of private citizens whose reports were filed each year with OGE itself was less than 10, but pursuant to 5 CFR 1320.3(c)(4)(i), the lower limit for this general regulatory-based requirement is set at 10 private persons. Thus, OGE reported the current annual burden of 15 hours. The proposed estimate of burden hours includes private citizen reports filed with departments and agencies throughout the executive branch (including OGE).

Consideration of Comments

As noted, public comment is again invited, this time particularly on the proposed further modified OGE Form 450 summarized in this notice and available without charge from OGE upon request (see the For Further Information Contact section above). In accordance with the Paperwork Reduction Act of 1995 (44 U.S.C. chapter 35), public comments are invited specifically on the need for and practical utility of this proposed modified collection of information, the accuracy of OGE's burden estimate, the enhancement of quality, utility and clarity of the information collected, and the minimization of burden (including the use of information technology).

The Office of Government Ethics is planning to submit to OMB, after this notice and comment period, a modified OGE Form 450 for three-year approval under the Paperwork Reduction Act. OGE especially invites comments on the further changes to the proposed modified OGE Form 450 that are intended to make it easier for filers to complete and for agencies to review. Comments received in response to this notice will be summarized for, and may be included with, OGE's future request for OMB paperwork approval for the proposed modified OGE Form 450. Any comments received will also become a matter of public record. After reviewing any comments and deciding on the proposed modifications to the OGE Form 450, OGE will also publish a second paperwork notice in the Federal Register to inform the agencies and the public at the time it submits the request for OMB paperwork approval.

Approved: March 14, 2006.
Marilyn L. Glynn,
Acting Director, Office of Government Ethics.

[FR Doc. E6-3937 Filed 3-16-06; 8:45 am]

BILLING CODE 6345-02-P